DEPARTMENT OF HEALTH AND HUMAN SERVICES

National Institutes of Health

Prospective Grant of an Exclusive License: Therapeutics for the Treatment of Spinal Cord Injury, Traumatic Brain Injury, and Leukemia

AGENCY: National Institutes of Health, Public Health Service, HHS.

ACTION: Notice.

SUMMARY: This notice, in accordance with 35 U.S.C. 209(c)(1) and 37 CFR Part 404.7(a)(1)(i), announces that the National Institutes of Health, Department of Health and Human Services, is contemplating the grant of an exclusive license to practice the inventions embodied in 1. E-073-1999/0-US-02, patent 6,737,511, issued May 15, 2004, entitled Receptor-Mediated Uptake of an Extracellular BCL-XL Fusion Protein Inhibits Apoptosis and 2. E-073-1999/0-US-05, patent application number 11/692,112 filed March 27, 2007, entitled Receptor-Mediated Uptake of an Extracellular BCL-XL Fusion Protein Inhibits Apoptosis, to Protox Therapeutics Incorporated (Protox), having a place of business in Vancouver and Victoria, Canada. The patent rights in these inventions have been assigned to the United States of America.

The prospective exclusive license territory may be worldwide, and the field of use may be limited to therapeutics for the treatment of spinal cord injury, traumatic brain injury and leukemia.

DATES: Only written comments and/or license applications which are received by the National Institutes of Health on or before June 30, 2008 will be considered.

ADDRESSES: Requests for copies of the patent and/or patent applications, inquiries, comments and other materials relating to the contemplated exclusive license should be directed to: John Stansberry, PhD, Technology Licensing Specialist, Office of Technology Transfer, National Institutes of Health, 6011 Executive Boulevard, Suite 325, Rockville, MD 20852-3804; Telephone: (301) 435-5236; Facsimile: (301) 402-0220; E-mail: stansbej@mail.nih.gov.

SUPPLEMENTARY INFORMATION: This technology could be used to minimize or prevent apoptotic damage that can be caused by neurodegenerative disorders or conditions like Alzheimer's disease, Huntington's disease, spinal-muscular atrophy, stroke episodes, transient ischemic neuronal injury or spinal cord injuries. Additionally, apoptotic-enhancing fusion proteins of the current invention could be used to inhibit cell growth and inhibit uncontrolled cellular proliferation.

The prospective exclusive license will be royalty-bearing and will comply with the terms and conditions of 35 U.S.C. 209 and 37 CFR Part 404.7. The prospective exclusive license may be granted unless within sixty (60) days from the date of this published notice, the NIH receives written evidence and argument that establish that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: April 23, 2008.
David Sadowski,
Deputy Director, Division of Technology Development and Transfer, Office of Technology Transfer, National Institutes of Health.

[FR Doc. E8-9401 Filed 4-29-08; 8:45 am]

BILLING CODE 4140-01-P